DEPARTMENT OF AGRICULTURE

Rural Utilities Service

Pleasant Valley Station Plant, Notice of Finding of No Significant Impact

AGENCY: Rural Utilities Service, USDA.

ACTION: Notice of Finding of No Significant Impact.

SUMMARY: Notice is hereby given that the Rural Utilities Service (RUS), pursuant to the National Environmental Policy Act of 1969, as amended, the Council on Environmental Quality regulations (40 CFR parts 1500-1508), and RUS Environmental Policies and Procedures (7 CFR part 1794), has made a Finding of No Significant Impact (FONSI) with respect to a project proposed by Great River Energy (GRE) of Elk River, Minnesota. The proposed project will have a total of three combustion turbine units, two 155 MW and one 124 MW unit, including a new 345/161 kV substation and other associated transmission facilities. The proposed plant will be constructed in the Pleasant Valley Township in Mower County, Minnesota. The construction site is located in the northwest quarter of Section 19, Pleasant Valley Township, Mower County, Minnesota. The primary purpose of the facility is to meet GRE?s peak electrical load. The facility will require approximately 24 acres of land. However, GRE wants to purchase up to 160 acres in order to provide sufficient construction lay-down area and to maintain an appropriate distance between the facility and its neighbors. The primary fuel for the facility will be natural gas via the Northern Natural Gas (NNG) pipeline. Presently the NNG pipeline is located approximately two miles north from the plant site. The power generated from the facility will be distributed through a new substation, which will be built on the plant site; a short tap line, approximately 500 feet in length, to an existing 345-kV transmission line. In addition, a 161-kV transmission line will be built to an existing substation located in north Austin. Between five and seven miles of the 161-kV line will need a new rights-of-way; much of the remainder of the transmission line, approximately 17 miles long, will follow an existing 69-kV transmission line.

RUS has concluded that the impacts from the proposed project would not be significant and that the proposed action is not a major federal action significantly affecting the quality of the human environment. Therefore, an Environmental Impact Statement will not be prepared.

FOR FURTHER INFORMATION CONTACT: Nurul Islam, Environmental Protection Specialist, Rural Utilities Service, Engineering and Environmental Staff, Stop 1571, 1400 Independence Avenue, SW, Washington, DC 20250-1571, telephone: (202) 720-1414. His e-mail address is nislam@rus.usda.gov. Information is also available from Mr. Tim Seck, Environmental Project Leader, GRE, 17845 East Highway 10, PO Box 800, Elk River, Minnesota 55330-0880, telephone (612) 241-2278, or E-mail tseck@grenergy.com.

SUPPLEMENTARY INFORMATION: RUS, in accordance with its environmental policies and procedures, required that GRE prepare an Environmental Analysis (EVAL) to evaluate the potential impacts of the proposed project. The EVAL, which includes input from federal, state, and local agencies, has been reviewed and accepted as RUS's Environmental Assessment (EA) for the project in accordance with 7 CFR 1794.41. RUS and GRE published notices of the availability of the EA and solicited public comments per 7 CFR 1794.42. Two federal agencies, Bureau of Indian Affairs and Federal Aviation Administration, have responded but no objections were raised. No comments were received from the public. Based on the EA, RUS has concluded that the proposed action will not have a significant effect to various resources, including important farmland, floodplains, wetlands, cultural resources, threatened and endangered species and their critical habitat, air and water quality, and noise. RUS has also determined that there would be no disproportionately high and adverse human health or environmental effects on minority populations and low-income populations as a result of the construction of the project.

Copies of the EA and FONSI can be reviewed at the headquarters of GRE and the RUS, at the addresses provided above in this notice.

Dated: April 18, 2000.
Blaine D. Stockton, Jr.,
Assistant Administrator-Electric, Electric Program, Rural Utilities Service.

[FR Doc. 00-10141 Filed 4-21-00; 8:45 am]

BILLING CODE 3410-15-P